DEPARTMENT OF THE INTERIOR

Bureau of Land Management

[OR-010-1020-PK; HAG 04-0001]

Meeting Notice for the Southeast Oregon Resource Advisory Council

AGENCY: Bureau of Land Management (BLM), Lakeview District.

SUMMARY: The Southeast Oregon Resource Advisory Council (SEORAC) will hold a conference call for all members on Wednesday, October 15, 2003 at 2 p.m. pacific standard time. The conference call is open to the public. Members of the public in the Lakeview area may attend the meeting in person in the Abert Rim Conference Room, Lakeview Interagency Office, 1301 South G Street, Lakeview, Oregon 97630. The meeting topics that may be discussed by the Council include a discussion of issues within Southeast Oregon related to: Birch Creek Recommendation, Sustainable Working Landscapes and Sage Grouse.

FOR FURTHER INFORMATION CONTACT: Additional information concerning the SEORAC conference call may be obtained from Pam Talbott, Contact Representative, Lakeview Interagency Office, 1301 South G Street, Lakeview, OR 97630 (541) 947-6107, or ptalbott@or.blm.gov and/or from the following Web site http://www.or.blm.gov/SEOR-RAC.

Dated: September 30, 2003.
M. Joe Tague,
Associate District Manager.

[FR Doc. 03-25329 Filed 10-06-03; 8:45 am]

BILLING CODE 4310-33-M